DEPARTMENT OF COMMERCE

International Trade Administration

[A-570-855]

Certain Non-Frozen Apple Juice Concentrate From the People's Republic of China: Extension of Time Limit for the Preliminary Results of the 2002-2003 Antidumping Duty Administrative Review

AGENCY: Import Administration, International Trade Administration, Department of Commerce.

ACTION: Extension of Time Limit

SUMMARY: The Department of Commerce is extending the time limit for the preliminary results of the 2002-2003 administrative review of the antidumping duty order on certain non-frozen apple juice concentrate from the People's Republic of China. The period of review is June 1, 2002, through May 31, 2003. This extension is made pursuant to section 751(a)(3)(A) of the Tariff Act of 1930, as amended.

EFFECTIVE DATE: March 4, 2004.

FOR FURTHER INFORMATION CONTACT: Audrey Twyman, or John Brinkmann, Import Administration, International Trade Administration, U.S. Department of Commerce, 14th Street and Constitution Avenue, NW, Washington, DC 20230; telephone: (202) 482-3534, or (202) 482-4126, respectively.

SUPPLEMENTARY INFORMATION:

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively. The order in this review was published on June 5, 2000. (See Notice of Amended Determination of Sales at Less than Fair Value and Antidumping Duty Order: Certain Non-frozen Apple Juice Concentrate from the PRC, 65 FR 35606 (June 5, 2000)).

Background

On July 29, 2003, the Department published in the Federal Register the notice of initiation of the antidumping administrative review on certain non-frozen apple juice concentrate from the People's Republic of China (“PRC”). (See Notice of Initiation of Antidumping and Countervailing Duty Administrative Reviews, Requests for Revocation in Part and Deferral of Administrative Reviews, 68 FR 44524 (July 29, 2003)). The preliminary results are currently due on March 1, 2004.

Extension of Time Limits for Preliminary Results

Additional information is required to evaluate the factors of production and legal structures of the respondent and possible affiliates in the PRC. It is, therefore, not practicable to complete this review within the originally anticipated time limit (i.e., March 1, 2004). Therefore, in accordance with section 751(a)(3)(A) of the Act, the Department is postponing the preliminary results of this administrative review for 120 days, until no later than June 29, 2004.

This notice is published pursuant to sections 751(a)(1) and 777(i)(1) of the Act.

Dated: February 27, 2004.
Jeffrey May,
Deputy Assistant Secretary for Import Administration.

[FR Doc. 04-4865 Filed 3-3-04; 8:45 am]

BILLING CODE 3510-DS-S